DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Advisory Committee on Research on Minority Health.

The meeting will be open to the public, with attendance limited to space available. Individuals who plan to attend and need special assistance, such as sign language interpretation or other reasonable accommodations, should notify the Contact Person listed below in advance of the meeting.

Name of Committee: Advisory Committee on Research on Minority Health.

Date: February 9, 2001.

Time: 8:30 a.m. to 5 p.m.

Agenda: Agenda items include: 1) Minority Health Initiatives FY 2000, 2) Presentations by ORMH Staff, 3) Director's Report and 4) Report of the Committee Chair.

Place: National Institutes of Health, Natcher Building, Room C1 and C2, Bethesda, MD 20892.

Contact Person: Jean L. Flagg-Newton, PhD, Special Assistant to the Associate Director, Office of Research on Minority Health, National Institutes of Health, Building 1, Room 256, 9000 Rockville Pike, Bethesda, MD 20892, (301) 402-2518.

This meeting is being published less than 15 days prior to the meeting due to scheduling conflicts.

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: January 24, 2001.
LaVerne Y. Stringfield,
Director, Office of Federal Advisory Committee Policy.

[FR Doc. 01-2664 Filed 1-30-01; 8:45 am]

BILLING CODE 4140-01-M